Title 3—

The President

Proclamation 8541 of July 16, 2010

Captive Nations Week, 2010

By the President of the United States of America

A Proclamation

In 1959, President Eisenhower issued the first Captive Nations Proclamation in solidarity with those living without personal or political autonomy behind the Iron Curtain. Since that time, once-captive nations have broken free to establish civil liberties, open markets, and allow their people access to information. However, even as more nations have embraced self-governance and basic human rights, there remain regimes that use violence, threats, and isolation to suppress the aspirations of their people.

The Cold War is over, but its history holds lessons for us today. In the face of cynicism and stifled opportunity, the world saw daring individuals who held fast to the idea that the world can change and walls could come down. Their courageous struggles and ultimate success—and the enduring conviction of all who keep the light of freedom alive—remind us that human destiny will be what we make of it.

The journey towards worldwide freedom and democracy sought in 1959 remains unfinished. Today, we still observe the profound differences between governments that reflect the will of their people, and those that sustain power by force; between nations striving for equal justice and rule of law, and those that deny their citizens freedom of religion, expression, and peaceful assembly; and between states that are open and accountable, and those that restrict the flow of ideas and information. The United States has a special responsibility to bear witness to those whose voices are silenced, and to stand alongside those who yearn to exercise their universal human rights.

In partnership with like-minded governments, we must reinforce multilateral institutions and international partnerships that safeguard human rights and democratic values. We must empower embattled civil societies and help their people connect with one another and the global community through new technologies. And, with faith in the future, we must always stand with the courageous advocates, organizations, and ordinary citizens around the world who fearlessly fight for limitless opportunity and unfettered freedom.

The Congress, by Joint Resolution, approved July 17, 1959 (73 Stat. 212), has authorized and requested the President to issue a proclamation designating the third week of July of each year as “Captive Nations Week.”

NOW, THEREFORE, I, BARACK OBAMA, President of the United States of America, do hereby proclaim July 18 through July 24, 2010, as Captive Nations Week. I call upon the people of the United States to reaffirm our deep commitment to all those working for human rights and dignity around the globe.

IN WITNESS WHEREOF, I have hereunto set my hand this sixteenth day of July, in the year of our Lord two thousand ten, and of the Independence of the United States of America the two hundred and thirty-fifth.

[FR Doc. 2010-17984

Filed 7-20-10; 8:45 am]

Billing code 3195-W0-P